DEPARTMENT OF COMMERCE

National Oceanic and Atmospheric Administration

RIN 0648-XE938

Marine Mammals; File No. 20430

AGENCY: National Marine Fisheries Service (NMFS), National Oceanic and Atmospheric Administration (NOAA), Commerce.

ACTION: Notice; receipt of application for permit amendment.

SUMMARY: Notice is hereby given that James Harvey, Ph.D., Moss Landing Marine Laboratories, 8272 Moss Landing Road, Moss Landing, CA 95039, has applied for an amendment to Scientific Research Permit No. 20430.

DATES: Written, telefaxed, or email comments must be received on or before July 26, 2019.

ADDRESSES: The application and related documents are available for review by selecting “Records Open for Public Comment” from the “Features” box on the Applications and Permits for Protected Species home page, https://apps.nmfs.noaa.gov, and then selecting File No. 20430 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Amy Hapeman, (301) 427-8401.

SUPPLEMENTARY INFORMATION: The subject amendment to Permit No. 20430 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

Permit No. 20430, issued on March 30, 2017 (82 FR 29053), authorizes the permit holder to conduct research on 12 species of marine mammals in California waters to study their distribution, movement, diet, foraging, and acoustic behaviors. Permitted research activities include passive acoustic recordings, behavioral observations, photography, photo-identification, videography, biological sampling (skin and blubber biopsy or sloughed skin), tagging (suction cup or dart/barb), and tracking. Additionally, a small number of non-target marine mammals may be incidentally harassed during research.

The permit holder is requesting the permit be amended to (1) authorize aerial surveys by unmanned aircraft systems (UAS) for photography, video recording, and photogrammetry for a new research objective to determine morphometric measurements to better understand reproductive health, growth rates, maneuverability, and energy capacity; (2) increase the number of takes for humpback whales (Megaptera novaeangliae) to 500 Level B harassment takes, 50 suction-cup tags, and 35 dart/barb tags, annually, due to their increased presence in the research area; and (3) increase the number of incidental disturbance takes for California sea lions (Zalophus californianus) to 1,000 individuals, annually.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: June 21, 2019.
Julia Marie Harrison,
Chief, Permits and Conservation Division, Office of Protected Resources, National Marine Fisheries Service.

[FR Doc. 2019-13594 Filed 6-25-19; 8:45 am]

BILLING CODE 3510-22-P